POSTAL SERVICE

Notice of Changes to Postal Service Standard 4C

AGENCY: Postal Service.

ACTION: Notice of Changes and Request for Comments.

SUMMARY: The Postal Service is updating the Postal Operations Manual (POM) to revise Standard 4C concerning apartment parcel locker ratios.

DATES: Comments must be received by January 19, 2021.

ADDRESSES: Email comments to Delivery.Growth@usps.gov, with a subject line of “Postal Operations Manual-Standard 4C Revision.” Faxed and mailed comments are not accepted. You may inspect and photocopy all written comments at USPS® Headquarters Library, 475 L'Enfant Plaza SW, 11th Floor N, Washington, DC by appointment only between the hours of 9 a.m. and 4 p.m., Monday through Friday by calling 1-202-268-2906 in advance.

FOR FURTHER INFORMATION CONTACT: The Growth Coordinator Administrator at Delivery.Growth@usps.gov.

SUPPLEMENTARY INFORMATION: The Postal Service is revising Postal Operations Manual (POM) section 632.622a. These changes revise the parcel locker ratio in apartment community buildings from 10:1 to 5:1. This change is necessary to accommodate an increase in package volume. While the Postal Service has made these changes to the POM, it is seeking, and intends to consider, comments from the public concerning these changes. You may view the changes to the POM at the following website: https://about.usps.com/what-we-are-doing/current-initiatives/delivery-growth-management/section-632.pdf (632.622a).

(Authority: 39 CFR 211.2)

Joshua J. Hofer,
Attorney, Federal Compliance.

[FR Doc. 2020-27886 Filed 12-17-20; 8:45 am]

BILLING CODE 7710-12-P